DEPARTMENT OF HOMELAND SECURITY

Federal Emergency Management Agency

[Docket ID FEMA-2020-0002; Internal Agency Docket No. FEMA-B-2069]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before March 1, 2021.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-2069, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Jefferson County, Alabama and Incorporated Areas
Project: 18-04-0027S Preliminary Date: May 8, 2019 and December 6, 2019
City of Bessemer | City Hall, 1700 3rd Avenue North, Bessemer, AL 35020.
City of Birmingham | Department of Planning, Engineering, and Permits, 710 North 20th Street, 5th Floor, Birmingham, AL 35203.
City of Fairfield | City Hall, 4701 Gary Avenue, Fairfield, AL 35064.
City of Hueytown | Building and Zoning Department, 1318 Hueytown Road, Hueytown, AL 35023.
City of Lipscomb | Lipscomb City Hall, 5512 Avenue H, Bessemer, AL 35020.
City of Pleasant Grove | City Hall, 501 Park Road, Pleasant Grove, AL 35127.
Town of North Johns | North Johns Town Hall, 4411 Town Hall Drive, Adger, AL 35006.
Unincorporated Areas of Jefferson County | Jefferson County Land Development Office, 716 Richard Arrington Jr. Boulevard North, Room 260, Birmingham, AL 35203.
Tuscaloosa County, Alabama and Incorporated Areas
Project: 18-04-0027S Preliminary Date: May 8, 2019
City of Northport | City Hall, 3500 McFarland Boulevard, Northport, AL 35476.
City of Tuscaloosa | City Hall, 2201 University Boulevard, Tuscaloosa, AL 35401.
Town of Brookwood | Town Hall, 15689 Alabama Highway 216, Brookwood, AL 35444.
Town of Coaling | Town Hall, 11281 Stephens Loop Road, Coaling, AL 35453.
Town of Coker | Town Hall, 11549 Eisenhower Drive, Coker, AL 35452.
Town of Lake View | Town Hall, 22757 Central Park Drive, Lake View, AL 35111.
Town of Vance | Town Hall, 17710 Vance Municipal Drive, Vance, AL 35490.
Town of Woodstock | Town Hall, 28513 Alabama Highway 5, Woodstock, AL 35188.
Unincorporated Areas of Tuscaloosa County | Tuscaloosa County Public Works Department, 2810 35th Street, Tuscaloosa, AL 35401.
Walker County, Alabama and Incorporated Areas
Project: 18-04-0027S Preliminary Date: May 8, 2019
Unincorporated Areas of Walker County | Walker County Engineering Department, 6 Ellis Haynes Drive, Jasper, AL 35503.
Greene County, Arkansas and Incorporated Areas
Project: 15-06-0133S Preliminary Date: June 30, 2020
Unincorporated Areas of Greene County | Greene County Office of Emergency Management, 320 West Court Street, Suite 107, Paragould, AR 72450.
Boulder County, Colorado and Incorporated Areas
Project: 19-08-0003S Preliminary Date: September 30, 2019
City of Boulder | Park Central, 1739 Broadway, Boulder, CO 80302.
City of Longmont | Development Services Center, 385 Kimbark Street, Longmont, CO 80501.
Town of Erie | Town Hall, 645 Holbrook Street, Erie, CO 80516.
Town of Jamestown | Town Hall, 118 Main Street, Jamestown, CO 80455.
Town of Lyons | Town Hall, 432 5th Avenue, Lyons, CO 80540.
Town of Nederland | Town Hall, 45 West 1st Street, Nederland, CO 80466.
Town of Superior | Town Hall, 124 East Coal Creek Drive, Superior, CO 80027.
Town of Ward | Town Hall, 1 Columbia Street, Ward, CO 80481.
Unincorporated Areas of Boulder County | Boulder County Community Planning and Permitting Department, 2045 13th Street, Boulder, CO 80302.
Sumter County, South Carolina and Incorporated Areas
Project: 18-04-0010S Preliminary Date: January 17, 2020
City of Sumter | Magnolia Place, 20 North Magnolia Street, Sumter, SC 29150.
Town of Mayesville | Town Hall, 22 South Main Street, Mayesville, SC 29104.
Unincorporated Areas of Sumter County | Magnolia Place, 20 North Magnolia Street, Sumter, SC 29150.
Williamsburg County, South Carolina and Incorporated Areas
Project: 18-04-0010S Preliminary Date: January 17, 2020
Town of Kingstree | Town Hall, 401 North Longstreet Street, Kingstree, SC 29556.
Unincorporated Areas of Williamsburg County | Williamsburg County Public Service Administration Building, 201 West Main Street, Kingstree, SC 29556.
Davidson County, Tennessee and Incorporated Areas
Project: 18-04-0037S Preliminary Date: March 27, 2020
City of Forest Hills | Forest Hills City Hall, 6300 Hillsboro Pike, Nashville, TN 37215.
City of Goodlettsville | Community Development Building, 318 North Main Street, Goodlettsville, TN 37072.
Metropolitan Government of Nashville-Davidson County | Metro Water and Sewage Service, 1600 Second Avenue North, Nashville, TN 37208.
Nueces County, Texas and Incorporated Areas
Project: 05-06-A088S Preliminary Date: May 30, 2018 and August 13, 2020
City of Bishop | City Hall, 203 East Main Street, Bishop, TX 78343.
City of Corpus Christi | Development Services, 2406 Leopard Street, Corpus Christi, TX 78408.
City of Robstown | Code Enforcement Division, 101 East Main Street, Robstown, TX 78380.
Unincorporated Areas of Nueces County | Nueces County Courthouse, 901 Leopard Street, Corpus Christi, TX 78401.
Monroe County, West Virginia and Incorporated Areas
Project: 19-03-0002S Preliminary Date: April 9, 2020
Town of Alderson | Monroe County 911 Center, 39 Nota Street, Union, WV 24983.
Unincorporated Areas of Monroe County | Monroe County 911 Center, 39 Nota Street, Union, WV 24983.

[FR Doc. 2020-26485 Filed 11-30-20; 8:45 am]

BILLING CODE 9110-12-P